DEPARTMENT OF HEALTH AND HUMAN SERVICES

National Institutes of Health

National Cancer Institute; Amended Notice of Meeting

Notice is hereby given of a change in the meeting of the National Cancer Institute Special Emphasis Panel, July 22, 2009, 8 a.m.to July 23, 2009, 5 p.m., Marriott Bethesda North Hotel & Conference Center, Bethesda, MD which was published in the Federal Register on June 11, 2009, 74FR27806.

This notice is amended to change the title from “NCI-ARRA Competitive Revisions-Pre Clinical, Drug Discovery & Imaging” to “NCI-ARRA Competitive Revisions & Grand Opportunity-Pre Clinical, Drug Discovery & Imaging”. The meeting is closed to the public.

Dated: July 9, 2009.
Jennifer Spaeth,
Director, Office of Federal Advisory Committee Policy.

[FR Doc. E9-16894 Filed 7-15-09; 8:45 am]

BILLING CODE 4140-01-P